DEPARTMENT OF DEFENSE

Department of the Air Force

[Docket ID: USAF-2012-0023]

Proposed Collection; Comment Request

AGENCY: Department of the Air Force, DoD.

ACTION: Notice.

SUMMARY: In compliance with the Paperwork Reduction Act of 1995, the Department of the Air Force announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 14, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to HQ USAFA/RRS, ATTN: Patty Edmond, 2304 Cadet Drive, Suite 2400, USAF Academy, CO 80840 or call 719-333-3358.

SUPPLEMENTARY INFORMATION:

Title; Associated Form; and OMB Number: Nomination For Appointment To The United States Military Academy, Naval Academy or Air Force Academy, DD FORM 1870; United States Air Force Drug and Alcohol Abuse Certificate, AF Form 2030; Application for Appointment to the United States Air Force Academy, AF Form 1786; United States Air Force Academy Candidate Writing Sample, USAFA Form 0-878; United States Air Force Academy School Official's Evaluation of Candidate, USAFA Form 145; United States Air Force Academy Candidate Personal Data Record, USAFA Form 146, United States Air Force Academy Candidate Activities Record, USAFA Form 147; United States Air Force Academy Request for Secondary School Transcript, USAFA Form 148; Air Force Academy PreCandidate Questionairre, USAFA Form 149; and Candidate Fitness Assessment, USAFA Form 158; OMB Control Number 0701-0026.

Needs and Uses: The information collection requirement is necessary to determine which candidates have been nominated by their Congress person or Senator; to evaluate background and aptitude for commissioned service; to provide a candidate's participation in athletic and non-athletic extracurricular activities, family and personal background, and academic and school background data by a candidate's high school official. This data collection also includes eligibility by verification of age, U.S. citizenship, law infractions, schooling beyond high school, previous active duty tours, and previous applications to service academies. Without this information it would be difficult to accurately determine a candidate's leadership, academic, physical abilities and if an initial applicant would qualified to enter the candidate phase of the process. Final USAF Academy selections could not be made if reviewing committees are not able to determine whether basic requirements have or have not been met.

Affected Public: Individuals or households, Not-for-profit institutions.

Annual Burden Hours: 117,570.

Number of Respondents: 58,785.

Responses per Respondent: 1.

Annual Responses: 58,785.

Average Burden per Response: 2 hours.

Frequency: On occasion.

Respondents are candidates applying to the Air Force Academy, instructors of candidates, and their high school counselors. Information collection is necessary in order to determine which candidates have been nominated by their Congress person or Senator; to evaluate background and aptitude for commissioned service; to provide a candidate's participation in athletic and non-athletic extracurricular activities, family and personal background, and academic and school background data by a candidate's high school official. This data also includes eligibility by verification of age, U.S. citizenship, law infractions, schooling beyond high school, previous active duty tours, and previous applications to service academies. It is also necessary in order to provide a candidate opportunity to show through English, Math, or other instructors that they can meet Air Force academic performance. This data allows the selection panel to evaluate the “whole person” concept. Without this information it would be difficult to accurately determine if an initial applicant would be qualified to enter into the candidate phase of the process. It would also be difficult to accurately determine a candidate's leadership abilities, physical stamina, and academic abilities. Final USAF Academy selections could not be made if reviewing committees are not able to determine if basic requirements have or have not been met.

Dated: October 5, 2015.
Aaron Siegel,
Alternate OSD Federal Register Liaison Officer, Department of Defense.

[FR Doc. 2015-25956 Filed 10-9-15; 8:45 am]

BILLING CODE 5001-06-P